DEPARTMENT OF LABOR

Employment and Training Administration

Announcement Regarding States Triggering “Off” in the Emergency Unemployment Compensation 2008 Program and the Federal-State Extended Benefits Program

AGENCY: Employment and Training Administration, Labor.

ACTION: Notice.

SUMMARY: Announcement regarding states triggering “off” in the Emergency Unemployment Compensation 2008 (EUC08) Program and the Federal-State Extended Benefits (EB) Program.

The U.S. Department of Labor (Department) produces trigger notices indicating which states qualify for both EB and EUC08 benefits, and provides the beginning and ending dates of payable periods for each qualifying state. The trigger notices covering state eligibility for these programs can be found at: http://ows.doleta.gov/unemploy/claims_arch.asp.

The following changes have occurred since the publication of the last notice regarding states' EB and EUC08 trigger status:

• Based on data released by the Bureau of Labor Statistics on March 30, 2012, the three month average, seasonally adjusted total unemployment rate in Connecticut fell below the 8.0% rate required to remain “on” in a high unemployment period (HUP) within the EB program. Claimants in this state were eligible for up to 20 weeks of benefits through April 21, 2012, but starting April 22, 2012, the maximum potential entitlement in the EB program for this state decreased from 20 weeks to 13 weeks.

• Based on data released by the Bureau of Labor Statistics on March 30, 2012, as well as revisions to prior year data released on February 29, 2012, Alabama, Delaware, Georgia, Indiana, Maryland, and Washington no longer meet one of the criteria to remain “on” in EB, i.e., having their current three month average, seasonally adjusted total unemployment rate be at least 110% of one of the rates from a comparable period in one of the three prior years. This triggered these states “off” EB and the end of the payable period for these states in the EB program was the week ending April 21, 2012.

• Although some states have triggered “off” of EB, they are currently triggered “on” to Tier 4 of the EUC08 program. Under Public Law 112-96, new Tier 4 claimants in states that are triggered “off” in the EB program, but are triggered “on” in Tier 4 of the EUC08 program, may be eligible for augmentation from a maximum potential duration of 6 weeks to a maximum potential duration of 16 weeks for a limited period of time. Details on this potential benefit augmentation can be found at http://wdr.doleta.gov/directives/corr_doc.cfm?DOCN=5271 starting at the bottom of Page 4. States that were affected by this provision were Arizona, Kentucky, Michigan, Mississippi, Oregon, Puerto Rico, South Carolina, and Tennessee. In addition, Georgia and Indiana were eligible to provide for up to 16 weeks of Tier 4 benefits for new Tier 4 claimants starting April 22.

• Based on data released by the Bureau of Labor Statistics on March 30, 2012, the three month average, seasonally adjusted total unemployment rate for Virginia fell below the threshold to remain “on” in Tier 3 of the EUC08 program. As a result, the current maximum potential entitlement in this state in the EUC08 program decreased from 47 weeks to 34 weeks. The week ending April 21, 2012 was the last week in which EUC08 claimants in this state could exhaust Tier 2, and establish Tier 3 eligibility. Under the phase-out provisions, claimants in this state can receive any remaining entitlement they have in Tier 3 after April 21, 2012.

• Based on data released by the Bureau of Labor Statistics on March 30, 2012, the three month average, seasonally adjusted total unemployment rates for Tennessee and Washington fell below the threshold to remain “on” in Tier 4 of the EUC08 program. As a result, the current maximum potential entitlement in these states for the EUC08 program decreased from 53 weeks to 47 weeks. The week ending April 21, 2012 was the last week in which EUC08 claimants in these states could exhaust Tier 3, and establish Tier 4 eligibility. Under the phase-out provisions, claimants in these states can receive any remaining entitlement they have in Tier 4 after April 21, 2012.

Information for Claimants

The duration of benefits payable in the EUC08 program, and the terms and conditions under which they are payable, are governed by Public Laws 110-252, 110-449, 111-5, 111-92, 111-118, 111-144, 111-157, 111-205, 111-312, 112-96, and the operating instructions issued to the states by the Department. The duration of benefits payable in the EB program, and the terms and conditions on which they are payable, are governed by the Federal-State Extended Unemployment Compensation Act of 1970, as amended, and the operating instructions issued to the states by the Department.

In the case of a state concluding an EB period, the State Workforce Agency will furnish a written notice of any change in potential entitlement to each individual who had established eligibility for EB (20 CFR 615.13(c)(4)). Persons who believe they may be entitled to benefits under the EB or EUC08 program, or who wish to inquire about their rights under the program, should contact their State Workforce Agency.

FOR FURTHER INFORMATION CONTACT: Scott Gibbons, U.S. Department of Labor, Employment and Training Administration, Office of Unemployment Insurance, 200 Constitution Avenue NW., Frances Perkins Bldg. Room S-4524, Washington, DC 20210, telephone number (202) 693-3008 (this is not a toll-free number) or by email: gibbons.scott@dol.gov.

Signed in Washington, DC, this 5th day of June, 2012.
Jane Oates,
Assistant Secretary for Employment and Training.

[FR Doc. 2012-14174 Filed 6-11-12; 8:45 am]

BILLING CODE 4510-FW-P